DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be postmarked and received by the Office of Standards, Regulations, and Variances on or before March 26, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. If you submit your comments by hand-delivery, you are required to check in at the receptionist desk on the 21st floor.

Copies of the petitions and comments will be available during normal business hours at the address listed above.

FOR FURTHER INFORMATION CONTACT: Ria Moore Benedict, Deputy Director, Office of Standards, Regulations, and Variances at 202-693-9443 (Voice), benedict.ria@dol.gov (E-mail), or 202-693-9441 (Telefax), or you can contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that an alternative method of achieving the result of such standard exists which will at all times guarantee no less than the same measure of protection afforded the miners of such mine by such standard, or that the application of such standard to such mine will result in a diminution of safety to the miners in such mine. In addition, the regulations at 30 CFR 44.10 and 44.11 establish the requirements and procedures for filing petitions for modifications.

II. Petitions for Modification

Docket Number: M-2006-080-C.

Petitioner: Black Beauty Coal Company, 13101 Zeigler 11 Road, P.O. Box 369, Coulterville, Illinois 62237.

Mine: Gate Mine, (MSHA I.D. No. 11-02408) located in Randolph County, Illinois.

Regulation Affected: 30 CFR 75.364(b)(1) (Weekly examination).

Modification Request: The petitioner requests a modification of the existing standard to permit the use of evaluation points in the Main East, North Side Intake entries due to deteriorating roof conditions. The petitioner proposes to establish evaluation point one at the No. 12 crosscut of the Main East, North Side Intake and the other evaluation point at the #50 crosscut of the Main East, North Side Intake. The petitioner states that by monitoring the evaluation points on the pre-shift, examinations will provide the proper information to assure that the ventilation controls are in place and functioning properly; the pre-shift examination will be conducted by certified persons and will consist of measuring ventilation quality and quantity; and the results of the examinations will be recorded in a book kept on the surface and readily available to interested parties. The petitioner asserts that the proposed alternative method will provide no less than the same measure of protection as the existing standard.

Docket Number: M-2006-081-C.

Petitioner: Oak Grove Resources, LLC, 8800 Oak Grove Mine Road, Adger, Alabama 35006.

Mine: Oak Grove Mine, (MSHA I.D. No. 01-00851), located in Jefferson County, Alabama.

Regulation Affected: 30 CFR 75.507 (Power connection points).

Modification Request: The petitioner requests a modification of the existing standard to permit the use of high-voltage non-permissible, submersible pumps in boreholes in an area of its mine where water has accumulated which is not on intake air. The petitioner states that the pumps will be located within the boreholes, the electrical components of the pump will always be separated from the mine atmosphere, and the pumps will be under water continuously. The petitioner proposes to use the specific procedures outlined in this petition for modification. Persons may review a complete description of the procedures at the MSHA address listed in this notice. The petitioner asserts that the proposed alternative method will all times guarantee no less than the same measure of protection afforded the miners employed at Oak Grove Mine by the existing standard.

Docket Number: M-2006-082-C.

Petitioner: Rosebud Mining Company, 301 Market Street, Kittanning, Pennsylvania 16201.

Mine: Penfield Mine, (MSHA I.D. No. 36-09355), located in Kittanning County, Pennsylvania.

Regulation Affected: 30 CFR 75.1100-2(e)(2) (Quantity and location of firefighting equipment).

Modification Request: The petitioner requests a modification of the existing standard to permit an alternate method of compliance with the requirement for firefighting equipment at temporary electrical installations. The petitioner proposes to use two (2) fire extinguishers or one fire extinguisher of twice the required capacity at all temporary electrical installations in lieu of using 240 pounds of rock dust. The petitioner asserts that the proposed alternative method will at all times guarantee no less than the same measure of protection afforded the miners by such standard.

Docket Number: M-2006-083-C.

Petitioner: Dominion Coal Corporation, P.O. Box 70, Vansant, Virginia 24656.

Mine: Dominion Mine No. 22, (MSHA I.D. No. 44-06645), located in Buchanan County, Virginia.

Regulation Affected: 30 CFR 77.214(a) (Refuse piles; general).

Modification Request: The petitioner requests a modification of the existing standard to allow abandoned mine openings to be covered with coarse scalp rock refuse material. Extension of existing refuse pile (Site ID #1211-VA5-0335-02) will cover the mine bench in an area containing abandoned mine openings. The petitioner states that: (1) There are a total of five (5) mine openings in the area to be filled with refuse at the Dominion Coal Corporation, Mine No. 22, and in the Tiller coal seam at the approximate elevation of 2085.00; and (2) the bench is the mine bench of the Dominion Mine No. 22 Tiller seam mine. The petitioner proposes to use the following methodology to seal the mine openings: (1) Remove of all sloughed overburden of 10 to 12 feet in front of and to either side of the drift openings in order to allow placement of suitable material for sealing; (2) Install a minimum 10-inch high-density polyethylene (PHDPE) pipe or PVC pipe wet seal in the lowest entry to prevent water from impounding in the mine void, cover the pipe with gravel, and extend the pipe through the fill area directed into the natural drainage course; (3) Backfill all drifts to a height of four (4) feet above the drift openings or to four (4) feet above any visible cracks above the drifts with an impervious, non-combustible material which would contain enough fines to ensure an airtight seal compacted to 90 percent of the Proctor and place backfill material in two (2) foot lifts; and (4) Backfill all exposed coal seams in the vicinity of the openings to a minimum of four (4) feet above the top of the coal seam. The petitioner asserts that the proposed alternative method will provide at least the same degree of safety as the existing standard.

Docket Number: M-2006-084-C.

Petitioner: The North American Coal Corporation, P.O. Box 399, Jourdanton, Texas 78026.

Mine: San Miguel Mine, (MSHA I.D. No. 41-02840), located in Atascosa County, Texas.

Regulation Affected: 30 CFR 77.803 (Fail safe ground check circuits on high-voltage resistance grounded systems).

Modification Request: The petitioner requests a modification of the existing standard for raising and lowering the boom/mast during disassembly or major maintenance. The petitioner states that during the boom raising and boom lowering period of construction and maintenance, the machine will not be performing mining operations and major maintenance requiring the raising/lowering of the boom/mast would only be performed on an as needed basis. All persons involved in the boom raising/lowering process would be trained and retrained prior to using the procedure. The petitioner asserts that application of the proposed alternative method will not result in a diminution of safety to the miners.

Docket Number: M-2006-013-M.

Petitioner: Vulcan Construction Materials, LP, 3001 Alcoa Highway, Knoxville, Tennessee 37920.

Mine: Richmond Road Underground Mine, (MSHA I.D. No. 15-00107), located in Fayette County, Kentucky.

Regulation Affected: 30 CFR 49.2 (Availability of mine rescue teams).

Modification Request: The petitioner requests a modification of the existing standard to permit the use of the Eastwood Fire District Firefighting and Rescue Teams as their mine rescue provider. The petitioner states that: (1) The rescue teams are located in Eastwood, Kentucky within the required time limit to the mine and have the required MSHA training; (2) the team members have had extensive training in firefighting, evacuation, and rescue; (3) the teams have had underground training and are familiar with the mines for which they will supply mine rescue services; and (4) the teams will have more rescue training than 30 CFR 49.8 requires and will train underground with apparatus at each of the mines where they will provide service. The petitioner asserts that the proposed alternative method of achieving the result of the standard will at all times guarantee no less than the same measure of protection afforded by the standard.

Docket Number: M-2006-014-M.

Petitioner: Vulcan Construction Materials, LP, 3001 Alcoa Highway, Knoxville, Tennessee 37920.

Mine: Central Underground Mine, (MSHA I.D. No. 15-00016), located in Fayette County, Kentucky.

Regulation Affected: 30 CFR 49.2 (Availability of mine rescue teams).

Modification Request: The petitioner requests a modification of the existing standard to permit the use of the Eastwood Fire District Firefighting and Rescue Teams as their mine rescue provider. The petitioner states that: (1) The rescue teams are located in Eastwood, Kentucky within the required time limit to the mine and have the required MSHA training; (2) the team members have had extensive training in firefighting, evacuation, and rescue; (3) the teams have had underground training and are familiar with the mines for which they will supply mine rescue services; and (4) the teams will have more rescue training than 30 CFR 49.8 requires and will train underground with apparatus at each of the mines where they will provide service. The petitioner asserts that the proposed alternative method of achieving the result of the standard will at all times guarantee no less than the same measure of protection afforded by the standard.

Docket Number: M-2006-015-M.

Petitioner: Rogers Group, Inc., 2182 West Industrial Park Drive, Bloomington, Indiana 47404.

Mine: Jefferson County Stone Underground Mine, (MSHA I.D. No. 15-18157), located in Jefferson County, Kentucky.

Regulation Affected: 30 CFR 49.2 (Availability of mine rescue teams).

Modification Request: The petitioner requests a modification of the existing standard to permit the use of the Eastwood Fire District Firefighting and Rescue Teams as their mine rescue provider. The petitioner states that: (1) The rescue teams are located in Eastwood, Kentucky within the required time limit to the mine and have the required MSHA training; (2) the team members have had extensive training in firefighting, evacuation, and rescue; (3) the teams have had underground training and are familiar with the mines for which they will supply mine rescue services; and (4) the teams will have more rescue training than 30 CFR 49.8 requires and will train underground with apparatus at each of the mines where they will provide service. The petitioner asserts that the proposed alternative method of achieving the result of the standard will at all times guarantee no less that the same measure of protection afforded by the standard.

Dated: February 16, 2007.
Patricia W. Silvey,
Director, Office of Standards, Regulations, and Variances.

[FR Doc. E7-3120 Filed 2-22-07; 8:45 am]

BILLING CODE 4510-43-P